DEPARTMENT OF TRANSPORTATION

Federal Aviation Administration

14 CFR Part 95

[Docket No. 30958; Amdt. No. 513]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, May 29, 2014.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on April 25, 2014.
John Duncan,
Director, Flight Standards Service.

Adoption of the Amendment

Accordingly, pursuant to the authority delegated to me by the Administrator, part 95 of the Federal Aviation Regulations (14 CFR part 95) is amended as follows effective at 0901 UTC, May 29, 2014.

1. The authority citation for part 95 continues to read as follows:

Authority: 49 U.S.C. 106(g), 40103, 40106, 40113, 40114, 40120, 44502, 44514, 44719, 44721.

PART 95—[AMENDED]

2. Part 95 is amended to read as follows:

Revisions to IFR Altitudes and Changeover Point
[Amendment 513 effective date, May 29, 2014]
FROM | TO | MEA | MAA
§ 95.3000 Low Altitude RNAV Routes
§ 95.3200 RNAV Route T200 Is Amended To Delete
FOOTHILLS, GA VORTAC | RICHE, SC FIX | 4800 | 8000
#EASTBOUND EXPECT 5000
WESTBOUND EXPECT 6000
RICHE, SC FIX | FLORENCE, SC VORTAC | 2500 | 8000
#EASTBOUND EXPECT 5000
WESTBOUND EXPECT 6000
§ 95.3201 RNAV Route T201
Is Amended by Adding:
MEVAE, SC WP | TRUEX, SC WP | 2200 | 7000
TRUEX, SC WP | FEGNO, NC WP | 2400 | 7000
FEGNO, NC WP | NUROE, NC WP | 2700 | 7000
NUROE, NC WP | BORTZ, NC WP | 3900 | 7000
Is Amended To Delete:
COLUMBIA, SC VORTAC | LOCAS, NC FIX | 2500 | 7000
#NORTHBOUND EXPECT 5000
SOUTHBOUND EXPECT 6000
LOCAS, NC FIX | JOTTA, NC FIX | 4400 | 7000
#NORTHBOUND EXPECT 5000
SOUTHBOUND EXPECT 6000
§ 95.3202 RNAV Route T202
Is Amended by Adding:
GURSH, SC WP | AWRYT, SC WP | 2400 | 8000
AWRYT, SC WP | RICHE, SC FIX | 2400 | 8000
GANTS, NC FIX | ZADEL, NC WP | 2700 | 8000
Is Amended To Read in Part:
HUSTN, NC FIX | FEGNO, NC WP | 2500 | 8000
FEGNO, NC WP | GANTS, NC FIX | 2600 | 8000
§ 95.3203 RNAV Route T203
Is Amended by Adding:
ANDYS, SC FIX | AWRYT, SC WP | 2400 | 17500
AWRYT, SC WP | ROUTH, NC WP | 2800 | 17500
ROUTH, NC WP | FADOS, NC WP | 3400 | 17500
FADOS, NC WP | OREAD, NC WP | 3500 | 17500
Is Amended To Delete:
COLUMBIA, SC VORTAC | LOCKS, SC FIX | 2500 | 7000
#NORTHBOUND EXPECT 6000
SOUTHBOUND EXPECT 7000
LOCKS, SC FIX | BARRETTS MOUNTAIN, NC VOR/DME | 4900 | 7000
#NORTHBOUND EXPECT 6000
SOUTHBOUND EXPECT 7000
BARRETTS MOUNTAIN, NC VOR/DME | PULASKI, VA VORTAC | 6000 | 7000
#NORTHBOUND EXPECT 6000
SOUTHBOUND EXPECT 7000
§ 95.3206 RNAV Route T206 Is Added To Read
ENADE, NC WP | FADOS, NC WP | 3000 | 17500
FADOS, NC WP | GOTHS, NC WP | 3400 | 17500
GOTHS, NC WP | NUROE, NC WP | 3400 | 17500
NUROE, NC WP | ZADEL, NC WP | 3000 | 17500
§ 95.3214 RNAV Route T214 Is Added To Read
OREAD, NC WP | BORTZ, NC WP | 3500 | 17500
BORTZ, NC WP | THMSN, NC WP | 3400 | 17500
THMSN, NC WP | ZADEL, NC WP | 2400 | 17500
ZADEL, NC WP | ORPEE, NC WP | 2700 | 17500

FROM | TO | MEA
§ 95.6001 VICTOR Routes-U.S.
§ 95.6044 VOR FEDERAL AIRWAY V44 Is Amended To Read in Part
PAWLING, NY VOR/DME | *ATHOS, NY FIX | 3100
*8000—MCA ATHOS, NY FIX, N BND
GROUP, NY FIX | *ALBANY, NY VORTAC | **6000
*6000—MCA ALBANY, NY VORTAC, S BND
**2800—GNSS MEA
§ 95.6123 VOR FEDERAL AIRWAY V123 Is Amended To Read in Part
CARMEL, NY VOR/DME | CASSH, NY FIX | 3000
CASSH, NY FIX | *WIGAN, NY FIX | 3100
*8000—MCA WIGAN, NY FIX, N BND
GROUP, NY FIX | *ALBANY, NY VORTAC | **6000
*6000—MCA ALBANY, NY VORTAC, S BND
**2800—GNSS MEA
§ 95.6157 VOR FEDERAL AIRWAY V157 Is Amended To Read in Part
KINGSTON, NY VOR/DME | *WIGAN, NY FIX | 3100
*8000—MCA WIGAN, NY FIX, N BND
GROUP, NY FIX | *ALBANY, NY VORTAC | **6000
*6000—MCA ALBANY, NY VORTAC, S BND
**2800—GNSS MEA
§ 95.6405 VOR FEDERAL AIRWAY V405 Is Amended To Read in Part
CARMEL, NY VOR/DME | CASSH, NY FIX | 3000
CASSH, NY FIX | PAWLING, NY VOR/DME | 3100
§ 95.6468 VOR FEDERAL AIRWAY V468 Is Amended To Read in Part
*BATTLE GROUND, WA VORTAC | TROTS, WA FIX | **10000
*5300—MCA BATTLE GROUND, WA VORTAC, NE BND
**7200—MOCA
**8000—GNSS MEA
*SWANY, WA FIX | HITCH, WA FIX | **8500
*11500—MCA SWANY, WA FIX, SW BND
**6800—MOCA
**7000—GNSS MEA
HITCH, WA FIX | YAKIMA, WA VORTAC |
| SW BND | *8500
| NE BND | *5000
*4400—MOCA |  |
*5000—GNSS MEA |  |
GLEED, WA FIX | ELLENSBURG, WA VORTAC | 6000

[FR Doc. 2014-09904 Filed 4-29-14; 8:45 am]

BILLING CODE 4910-13-P